ENVIRONMENTAL PROTECTION AGENCY

[FRL-8273-6]

Notice of Broadly Applicable Alternative Test Methods

AGENCY: Environmental Protection Agency (EPA).

ACTION: Notice of availability.

SUMMARY: This notice announces broadly applicable alternative test method approval decisions that the Environmental Protection Agency has made under and in support of the New Source Performance Standards and the National Emission Standards for Hazardous Air Pollutants. Although we have made both site-specific and broadly applicable alternative test method approvals in the past, most recently we have issued only site- or facility-specific approvals. This notice announces our plan to issue broadly applicable alternative test method approvals in the future. We will post these broadly applicable approvals on our technology transfer network Web site as well as announce them in the Federal Register. The publication of these broadly applicable alternative test method approvals on our Web site will provide information about options and flexibility for the regulated community. In addition, this information may reduce the burden on source owners and operators in making site-specific alternative test method requests and the permitting authorities and the EPA Administrator in processing those requests.

FOR FURTHER INFORMATION CONTACT: Broadly applicable alternative test method approvals may be accessed from the EPA's Web site at http://www.epa.gov/ttn/emc/tmethods.html#CatB. For questions about this notice, contact Robin R. Segall, Air Quality Assessment Division, Office of Air Quality Planning and Standards (E143-02), Environmental Protection Agency, Research Triangle Park, NC 27711; telephone number (919) 541-0893; fax number (919) 541-0893; e-mail address: segall.robin@epa.gov. For technical questions about individual alternative test method decisions, refer to the contact person identified in the individual approval documents.

SUPPLEMENTARY INFORMATION:

I. General Information

A. Does this action apply to me?

This announcement will be of interest to entities regulated under 40 CFR parts 60, 61, and 63 and State, local, Tribal agencies, and EPA Regional Offices responsible for implementation and enforcement of regulations under 40 CFR parts 60, 61, and 63.

B. How can I get copies of this information?

You may access copies of the broadly applicable alternative test method approvals from the EPA's Web site at http://www.epa.gov/ttn/emc/tmethods.html#CatB.

II. Background

Broadly applicable alternative test method approval decisions that we have made in the past under the New Source Performance Standards (NSPS), 40 CFR part 60 and the National Emission Standards for Hazardous Air Pollutants (NESHAP), 40 CFR parts 61 and 63 are identified in this notice (see Table 1). Most of our prior alternative test method approvals have been on a facility-specific basis, but we plan to issue more broad (i.e., source category-wide) alternative test method approvals in the future, and we will post these broadly applicable approvals on our technology transfer network Web site. We will also announce them in the Federal Register. Source owners or operators may voluntarily choose to use these broadly applicable alternative test methods. Use of these alternatives does not change the applicable emission standards.

Table 1.—Approved Alternative Test Methods and Modifications to Test Methods Under Appendices A or B in 40 CFR Parts 60, 61, and 63
We are announcing alternative number | As an alternative or modification to . . . | For . . . | You may . . .
Alt-001 | Method 7, Determination of Nitrogen Oxide Emissions from Stationary Sources and Method 7A, Determination of Nitrogen Oxide Emissions from Stationary Sources—Ion Chromatographic Method | Sources required to use Method 7 or 7A and which have concentrations of SO2 greater than 2100 ppm | Measure NOX emissions when the SO2 concentration is greater than 2100 ppm by either increasing the absorbing solution concentration or by using Method 7E, 40 CFR, part 60, appendix A.
Alt-002 | Methods 10 and 10B, Determination of Carbon Monoxide Emissions from Stationary Sources and Method 10A, Determination of Carbon Monoxide Emissions | Sources required to use Methods 10, 10A, or 10B in certifying continuous emission monitoring systems at petroleum refineries | Determine carbon monoxide (CO) emissions using gas tanks instead of Tedlar bags.
Alt-005 | Method 5, Determination of Particulate Emissions from Stationary Sources | Sources required to use Method 5 | Use Teflon bags in lieu of glass weighing dishes.
Alt-006 | Method 12, Determination of Inorganic Lead Emissions from Stationary Sources | Sources required to use Method 12 | Use Inductively Coupled Plasma—Atomic Emission Spectrometry (ICP-AES) to analyze samples.
Alt-006 | Method 101A, Determination of Particulate and Gaseous Mercury Emissions from Sewage Sludge Incinerators | Sources required to use Method 101A | Use Inductively Coupled Plasma—Atomic Emission Spectrometry (ICP-AES) to analyze samples.
Alt-006 | Method 104, Determination of Beryllium Emissions from Stationary Sources | Sources required to use Method 104 | Use Inductively Coupled Plasma—Atomic Emission Spectrometry (ICP-AES) to analyze samples.
Alt-006 | Method 108A, 40 CFR part 61, appendix B, Determination of Arsenic Content in Ore Samples from Nonferrous Smelters | Sources required to use Method 108A | Use Inductively Coupled Plasma—Atomic Emission Spectrometry (ICP-AES) to analyze samples.
Alt-008 | Method 6, Determination of Sulfur Dioxide Emissions from Stationary Sources | Sources required to use Method 6 | Measure stack gas moisture for correction of pollutant concentration and flow rate.
Alt-010 | Method 11, Determination of Hydrogen Sulfide Content of Fuel Gas Streams in Petroleum Refineries | Sources required to use Method 11 | Measure hydrogen sulfide using Method 15 or 16 (40 CFR part 60, appendix A) in lieu of Method 11.
Alt-011 | Method 2, Determination of Stack Gas Velocity and Volumetric Flow Rate (Type S Pitot Tube) | Sources required to use Method 2 | Check the thermocouple calibration at a single point in lieu of two points.
Alt-012 | Method 5H, Determination of Particulate Emissions from Wood Heaters from a Stack Location | Sources required to use Method 5H | Measure particulate emissions from a woodstove stack one foot or less in diameter with gas flow between 5 and 15 feet per second, or from stacks or ducts where there is no stratification of the tracer gas.
Alt-014 | Methods 306 and 306A, Determination of Chromium Emissions from Decorative and Hard Chromium Electroplating and Anodizing Operations | Sources required to use Methods 306 and 306A | Omit the filtering of Sample Container No. 1 when there is no observable sediment in the impinger liquid when sampling at electroplating and anodizing operations.
Alt-016 | Method 14, Determination of Fluoride Emissions from Potroom Roof Monitors for Primary Aluminum Plants; Method 14A, Determination of Total Fluoride Emissions from Selected Sources at Primary Aluminum Production Facilities | Sources required to use Methods 14 and 14A | Use scintillation anemometers in lieu of propeller anemometers to determine effluent velocity from potroom roofs.
Alt-017 | Method 18, Measurement of Gaseous Organic Compound Emissions by Gas Chromatography, Method 106, Determination of Vinyl Chloride from Stationary Sources | Sources required to use Method 18 or Method 106 under the subparts of 40 CFR parts 60, 61, and 63 specified in Alt-017 | Use direct interface gas chromatography/mass spectrometry (GC/MS) in lieu of GC with limitations specified.
Alt-018 | Method 9, Visual Determination of the Opacity of Emissions from Stationary Sources | Sources with multiple emission points subject to visible emissions observations under 40 CFR part 60, subpart LL, Standards of Performance for Metallic Mineral Processing Plants and subpart 000, Standards of Performance for Nonmetallic Mineral Processing Plants | Allow a single visible emission observer to conduct up to three visible emissions observations from fugitive, stack, or vent emission points simultaneously.
Alt-019 | Method 24, Determination of Volatile Matter Content, Water Content, Density, Volume Solids, and Weight Solids of Surface Coatings | Entities using Method 24 for analysis of electrical insulating varnishes | Use ASTM D6053-96 in lieu of Method 24 to determine the VOC content in electrical insulating varnishes.
Alt-020 | Method 204 of 40 CFR part 51, appendix M, Criteria for and Verification of a Permanent or Temporary Total Enclosure | Bakery ovens required to use Method 204 | Use the alternative procedure entitled “Negative Pressure Enclosure Qualitative Test Method for Bakery Ovens” to determine capture efficiency.
Alt-021 | Method 25A, Determination of Total Gaseous Organic Concentration Using a Flame Ionization Analyzer | Marine tank vessel loading operations | Determine the total gaseous organic concentration using Method 25B in lieu of Method 25A.
Alt-022 | Method 25C, Determination of Nonmethane Organic Compounds (NMOC) in MSW Landfill Gases | Sources required to use Method 25C | Drill the sample probe in one step without backfilling.
Alt-023 | Method 25C, Determination of Nonmethane Organic Compounds (NMOC) in MSW Landfill Gases | Sources required to use Method 25C | Use teflon lines instead of stainless-steel liners; use leak tight teflon tubing as a sampling line; use non-perforated probes if they meet the gas gap equivalent; use composite samples from different sample probes in a single vessel; use a hand-driven pump and bag setup for the probe purge.
Alt-024 | Method 25E, Determination of Vapor Phase Organic Concentration in Waste Samples | Sources required to use Method 25E | Use 40ml VOA vials as alternative sampling vessels.
Alt-025 | Test methods, performance specifications, and quality assurance requirements that require the use of multiple calibration gases | Sources required to use multiple calibration gas test methods | Use the Method 205 gas dilution system in lieu of using multiple calibration gases.
Alt-026 | Method 18, Measurement of Gaseous Organic Compound Emissions by Gas Chromatography | Sources subject to 40 CFR, part 60, subpart III, Standards of Performance for VOC Emissions From the Synthetic Organic Chemical Manufacturing Industry Air Oxidation Unit Processes | Use Method 316 to measure formaldehyde emissions in lieu of Method 18.
Alt-027 | Method 18, Measurement of Gaseous Organic Compound Emissions by Gas Chromatography | Sources subject to 40 CFR, part 63, subpart F, National Emission Standards for Organic Hazardous Air Pollutants from the Synthetic Organic Chemical Manufacturing Industry and 40 CFR part 63, subpart G, National Emission Standards for Organic Hazardous Air Pollutants from the Synthetic Organic Chemical Manufacturing Industry for Process Vents, Storage Vessels, Transfer Operations, and Wastewater | Use Method 316 to measure formaldehyde emissions in lieu of Method 18.
Alt-028 | Test procedures in 40 CFR § 63.365 (including Method 18, Measurement of Gaseous Organic Compound Emissions by Gas Chromatography) | Ethylene oxide sterilizers subject to 40 CFR part 63, subpart O, Ethylene Oxide Emissions Standards from Sterilization Facilities | Use CARB Method 431 in lieu of procedures (including Method 18) in 40 CFR § 63.365.
Alt-029 | Method 308, Procedure for Determination of Methanol Emissions from Stationary Sources | Pulp and paper mills required to use Method 308 under 40 CFR part 63 | Use NCASI Chilled Water/Impinger/Silica Gel Tube Test Method in lieu of Method 308
Alt-030 | Method 306, Determination of Chromium Emissions from Decorative and Hard Chromium Electroplating and Chromium Anodizing Operations—Isokinetic Method | Sources subject to 40 CFR part 63, subpart N, National Emission Standards for Chromium Emissions from Hard and Decorative Chromium Electroplating and Chromium Anodizing Tanks | Use SCAQMD Method 205.1 in lieu of Method 306.
Alt-031 | Method 2, Determination of Stack Gas Velocity and Volumetric Flow Rate (Type S Pitot Tube) | Sources required to use Method 2 under 40 CFR parts 60, 61, or 63 | Use Method 2G (three-dimensional probe), Method 2F (two-dimensional probe), or Method 2H (taking into account velocity decay near stack wall) in lieu of Method 2, as appropriate.

Alternative test methods and procedures are necessary for various reasons. In some cases, there are inherent restrictions in test methods which warrant a deviation from a specific requirement in the method. For example, the sampling equipment specified in Method 5 is not appropriate at stack temperatures greater than 1200 degrees Fahrenheit, and in such cases, water-cooled probes are necessary. As another example, it is problematic to measure volatile organic compounds (VOCs) at concentrations below 50 parts per million (ppm) using Method 25 (40 CFR part 60, appendix A), so other methods (notably Method 25A) have been approved for this situation. Also, new and improved testing techniques are developed over time. As pollution controls improve and emissions decrease, it may be necessary or desirable to utilize newer methods with advantages such as lower detection limits.

The EPA Administrator has the authority to approve the use of alternative test methods to comply with requirements under 40 CFR parts 60, 61, and 63. This authority is found in §§ 60.8(b)(3), 61.13(h)(1)(ii), and 63.7(e)(2)(ii). In 40 CFR part 63, § 63.2, test method is defined as “the validated procedure for sampling, preparing, and analyzing for an air pollutant specified in a relevant standard as the performance test procedure. The test method may include methods described in an appendix of this chapter, test methods incorporated by reference in this part, or methods validated for an application through procedures in Method 301 of appendix A of this part.” The term “reference method” is used in 40 CFR parts 60 and 61 instead of the term “test method.” In 40 CFR part 60, reference method means “any method of sampling and analyzing for an air pollutant as specified in the applicable subpart.” The definition in 40 CFR part 61 is similar. For simplicity, we use the term “test method” in this notice to refer to both “test methods” under 40 CFR part 63 and “reference methods” under 40 CFR parts 60 and 61. Citations and definitions in all three of these parts refer to the use of alternatives to test (or reference) methods. Under 40 CFR part 60, alternative method means “any method of sampling and analyzing for an air pollutant which is not a reference or equivalent method but which has been demonstrated to the EPA Administrator's satisfaction to, in specific cases, produce results adequate for his determination of compliance.” Again, 40 CFR part 61 contains a similar definition. 40 CFR part 63 defines alternative test method as “any method of sampling and analyzing for an air pollutant that is not a test method in this chapter and that has been demonstrated to the EPA Administrator's satisfaction, using Method 301 in appendix A of this part, to produce results adequate for the EPA Administrator's determination that it may be used in place of a test method specified in this part.”

Over the years, we have performed thorough technical reviews of numerous requests for alternatives and modifications to test methods and procedures. Based on these experiences, we have found that often, these changes or alternatives would be equally valid and appropriate to apply to other sources within a particular class, category, or subcategory. Consequently, we have concluded that where a method modification or a change or alternative is clearly broadly applicable to a class, category, or subcategory of sources, it is both more equitable and efficient to approve its use for all appropriate sources and situations at the same time. This approach would not change the practical outcome of whether any specific request would or would not be approved. However, approving broadly applicable alternative test methods would expedite the approval process, provide additional flexibility for the regulated community, and reduce the burden on source owners and operators, the permitting authorities, and the EPA Administrator. Where technically appropriate, we will continue, as always, to approve the use of an alternative test method or modification to a test method for a specific source only. It is important to clarify that alternative methods are not mandatory but permissible. That is, no source is required to employ such a method but may choose to do so in appropriate cases. By electing to use an alternative method, the source owner or operator consents to thereafter demonstrating compliance with applicable requirements based on the results of the alternative method until approved to do otherwise.

If you are aware of reasons why a particular alternative test method approval that we issue should not be broadly applicable, we request that you make us aware of the reasons within 60 days of the Federal Register notice announcing the broad approval, and we will revisit the broad approval. Approvals for broadly applicable alternative test methods will be announced on our technology transfer network Web site http://www.epa.gov/ttn/emc/tmethods.html#CatB soon after they are issued, as well as through periodic notices of this kind. Likewise, any objection to a broadly applicable alternative test method as well as the resolution to that objection will be posted on the same Web site and announced in the subsequent Federal Register notice. If we should decide to retract a broadly applicable alternative test method, we would continue to grant case-by-case approvals, as appropriate, and would (and States should) consider the need for an appropriate transition period for users either to request case-by-case approval or to transition to an approved method.

Section 63.90(a) of 40 CFR part 63 defines three categories of alternatives or changes to test methods: minor changes, intermediate changes, and major changes. A major change to a test method includes modifications using “unproven technology or procedures” (those not generally accepted by the scientific community), entirely new methods, or changes that apply to a category or subcategory of affected sources. Such changes will almost always set a national precedent. Under 40 CFR part 63, § 63.91(g), a State may ask EPA to delegate the authority to approve minor and intermediate, but not major alternatives to test methods. The Agency's policy has been to retain the authority to approve major changes to test methods at the national level to assure uniformity and technical quality in the test methods used for enforcement of national standards. Likewise, broad approvals to alternative test methods would be made only at the national level or as part of a revision to a State or Tribal implementation plan.

A. Criteria for Approval of Alternative Methods

The definitions of “alternative method” in 40 CFR parts 60 and 61 and “alternative test method” in 40 CFR part 63, establish the principal criterion for approval of an alternative test method: The EPA Administrator or his authorized representative must be satisfied that the test method alternative will produce results adequate to determine compliance. In other words, the EPA Administrator or authorized representative, such as a State having delegated authority, generally must be assured that a test method change provides a determination of compliance status at the same or greater stringency as the test method specified in the applicable regulation.

The General Provisions to 40 CFR part 63 provide a number of specifications regarding the content and process for alternative test method requests. In particular, § 63.7(f)(2)(i) stipulates that the source owner or operator must notify the EPA Administrator of the intent to use an alternative test method at least 60 days before the performance test is scheduled. Section 63.7(f)(2) clarifies that a written application is required for approval of an alternative test method and specifies that the submittal to the EPA Administrator must include the results of the Method 301 validation process as well as justification for not using the test method specified in the applicable subpart. The 40 CFR parts 60 and 61 General Provisions are less specific. Nevertheless, based on our experience in responding to hundreds of alternative test method requests over the last 30 years, we ask that alternative test method requests include the applicable Federal regulation and test method, a description of the process and controls to which the alternative method will be applied, a description of the alternative testing procedures as well as the justification for use of the alternative and Method 301 validation data required under 40 CFR part 63.

B. Procedures for Submission and Review of Alternative Methods

Considering that the different levels of alternatives or changes to test methods (minor, intermediate, and major) may be acted on by differing levels of government (e.g., State, local, and Tribal agencies; EPA Regional Offices; or EPA Headquarters), we recommend that the owner/operator of an affected source consult with the responsible agency to determine how and to whom a request for a particular request for an alternative method should be submitted. Review processes may vary depending on the agency involved. The process described here is typical of how EPA Headquarters might handle a request for an alternative test method. Upon our receipt of a written request, the request is recorded in our tracking system. Within a few days of receipt of the request, a technical expert determines whether or not the request is complete (i.e., contains sufficient supporting data and information). The technical expert then acknowledges receipt of the request and notifies the requester that we are evaluating the request. The reviewer evaluates the request and supporting information to confirm that the proposed alternative is justified, technically sound, and that it will produce results adequate to determine compliance with the emission standards. The reviewer analyzes all necessary information to check the accuracy and repeatability of the alternative method. As previously noted, § 63.7(f)(2)(iii) of 40 CFR part 63 specifies that the results of a Method 301 validation and justification for not using the specified method must accompany a request for approval to use an alternative test method. Method 301, Validation of Pollutant Measurement Methods from Various Waste Media includes procedures for determining and documenting the systematic error (i.e., bias) and random error (i.e., precision) of a measurement system. The procedures involve introducing known concentrations of an analyte or comparing the test method against a validated test method to determine the method's bias and collecting multiple or co-located simultaneous samples to determine the method's precision. Method 301 validation testing or data in a form responsive to § 12 of Method 301 should also accompany requests for major changes to test methods under parts 60 and 61. During the review process, all relevant documents (e-mails, letters, and other supporting materials) are retained and filed. Once the review process has been completed, we issue an official letter providing written notification of approval/disapproval of the alternative test method request under § 63.7(f)(3), § 60.8(b), or § 61.13(h)(1).

C. Recording and Publication

As noted earlier, approvals for broadly applicable alternative test methods will be announced on the EPA's Web site at http://www.epa.gov/ttn/emc/tmethods.html#CatB as soon as they are issued. The notification on our Technology Transfer Network (TTN) Web site will clearly indicate each class, category, or subcategory of sources for which the change or alternative test method is approved. We intend to publish a notice annually that summarizes approvals for broadly applicable alternative test methods.

Table 1 in this notice includes a summary of broad approvals that have been posted to the TTN. Complete copies of these documents may be obtained at http://www.epa.gov/ttn/emc/tmethods.html#CatB.

Dated: January 19, 2007.
Jenny Noonan Edmonds,
Acting Director, Office of Air Quality Planning, and Standards.

[FR Doc. E7-1338 Filed 1-29-07; 8:45 am]

BILLING CODE 6560-50-P